DEPARTMENT OF THE INTERIOR

Bureau of Land Management

[MT-072-03-1220-HB]

Notice of Temporary Area Closure of Approximately 40 Acres by the Bureau of Land Management (BLM) Butte Field Office to All Public Uses of the Holter Lake, Log Gulch and Departure Point Recreation Sites Located on Holter Lake Within Lewis and Clark County, Montana While Reconstruction Is Underway

AGENCY: Bureau of Land Management, Interior.

ACTION: Notice of closure.

SUMMARY: Notice is hereby given that all public lands and roadways within the Holter Lake Recreation Site between April 28 and June 30, 2003, and all public lands and roadways within Log Gulch and Departure Point Recreation Sites between July 15 and October 31, 2003 are closed to all public uses for reconstruction. Closure signs will be posted at main entry points to these locations. Maps of the closure area and information on the reconstruction plans may be obtained from the Butte Field Office.

Reasons for this closure are to provide for the safety of the public, expedite construction work, and protect construction equipment and materials. Authority for this closure is cited under 43 CFR, Subpart 8364.

Prohibited Act: Under 43 CFR 8364.1, the Bureau of Land Management will enforce the following rule within the area known as Holter Lake Recreation Area: The public is not allowed within the area for any purpose. The public lands affected by this closure are administered by the BLM in T. 14 N., R. 3 W., Sec. 4, 14, and 23 P.M.M.

DATES: This closure will take effect May 14, 2003.

ADDRESSES: Closure area maps may be obtained from the Butte Field Office, 106 N. Parkmont, Butte, MT 59701.

FOR FURTHER INFORMATION CONTACT: Brad Rixford, Butte Field Office, telephone (406) 533-7600.

SUPPLEMENTARY INFORMATION: Exemptions: Persons who are exempt from these rules include any Federal, State, or local officer or employee in the scope of their duties, members of any organized rescue or fire-fighting force in performance of an official duty, construction and contract workers, and any person authorized in writing by the Bureau of Land Management.

Penalties: The authority for this closure is found under section 303(a) of the Federal Land Policy and Management Act of 1976 (43 U.S.C. 1733(a)) and 43 CFR 8360.0-7. Any person who violates this closure may be tried before a United States Magistrate and fined no more than $1,000 or imprisoned for no more than 12 months, or both. Such violations may also be subject to the enhanced fines provided for by 18 U.S.C. 3571.

Dated: April 14, 2003.
Steven Hartmann,
Assistant Field Manager.

[FR Doc. 03-12060 Filed 5-13-03; 8:45 am]

BILLING CODE 4310-$$-P